INTERNATIONAL TRADE COMMISSION

[Investigation No. 731-TA-1123 (Final)]

Steel Wire Garment Hangers From China

AGENCY: United States International Trade Commission.

ACTION: Revised schedule for the subject investigation.

DATES: Effective Date: April 23, 2008.

FOR FURTHER INFORMATION CONTACT: Gabriel Ellenberger (202-205-3289), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS) at http://edis.usitc.gov.

SUPPLEMENTARY INFORMATION: Effective March 25, 2008, the Commission established a schedule for the conduct of the final phase of the subject investigation (73 FR 18560, April 4, 2008). Subsequently, the Department of Commerce extended the date for its final determination in the investigation from June 9, 2008 to August 7, 2008 (73 FR 20018, April 14, 2008). The Commission, therefore, is revising its schedule to conform with Commerce's new schedule.

The Commission's new schedule for the investigation is as follows: requests to appear at the hearing must be filed with the Secretary to the Commission not later than July 25, 2008; the prehearing conference will be held at the U.S. International Trade Commission Building at 9:30 a.m. on July 28, 2008; the prehearing staff report will be placed in the nonpublic record on July 17, 2008; the deadline for filing prehearing briefs is July 24, 2008; the hearing will be held at the U.S. International Trade Commission Building at 9:30 a.m. on July 31, 2008; the deadline for filing posthearing briefs is August 14, 2008; the Commission will make its final release of information on September 4, 2008; and final party comments are due on September 8, 2008.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: April 24, 2008.
Marilyn R. Abbott,
Secretary to the Commission.

[FR Doc. E8-9415 Filed 4-29-08; 8:45 am]

BILLING CODE 7020-02-P